DEPARTMENT OF COMMERCE

International Trade Administration

A-549-807

Certain Carbon Steel Butt-Weld Pipe Fittings From Thailand: Final Results of Changed-Circumstances Antidumping Duty Review

AGENCY: Import Administration, International Trade Administration, Department of Commerce.

SUMMARY: The Department of Commerce (the Department) has determined, pursuant to section 751(b) of the Tariff Act of 1930, as amended (the Act), that Awaji Materia (Thailand) Co., Ltd. is the successor-in-interest to Awaji Sangyo (Thailand) Co., Ltd. (AST) and, as a result, should be accorded the same treatment previously accorded to AST with respect to the antidumping duty order on certain carbon steel butt-weld pipe fittings from Thailand.

EFFECTIVE DATE: February 27, 2009.

FOR FURTHER INFORMATION CONTACT: Kristin Case or Minoo Hatten, AD/CVD Operations, Office 5, Import Administration, International Trade Administration, U.S. Department of Commerce, 14th Street and Constitution Avenue, NW, Washington, DC 20230; telephone: (202) 482-3174 and (202) 482-1690, respectively.

SUPPLEMENTARY INFORMATION:

Background

On July 6, 1992, the Department published an antidumping duty order on pipe fittings from Thailand in which it stated that AST was excluded from the order due to its de minimis margin in the less-than-fair-value investigation. See Antidumping Duty Order; Certain Carbon Steel Butt-Weld Pipe Fittings From Thailand, 57 FR 29702 (July 6, 1992); see also Final Determination of Sales at Less Than Fair Value: Certain Carbon Steel Butt-Weld Pipe Fittings from Thailand, 57 FR 21065 (May 18, 1992).¹ On November 18, 2008, the Department received a request for a changed-circumstances review of this order from AMT to determine if, for purposes of the antidumping law, AMT is the successor-in-interest to AST. On January 14, 2009, the Department published the notice of initiation for this changed-circumstances review and preliminarily found that AMT is the successor-in-interest to AST and should be treated as such for antidumping purposes. See Notice of Initiation and Preliminary Results of Changed-Circumstances Antidumping Duty Review: Certain Carbon Steel Butt-Weld Pipe Fittings From Thailand, 74 FR 2048 (January 14, 2009) (Preliminary Results). We invited interested parties to comment on the preliminary results. We received comments from AMT and Silbo Industries, Inc.²

¹ As observed in the November 18, 2008, request from AMT, exports of subject merchandise of AST were also the subject of a subsequent investigation in which the International Trade Commission concluded that the exports did not result in the material injury or threat of material injury to the U.S. industry or in material retardation of the establishment of an industry in the United States. See Certain Carbon Steel Butt-Weld Pipe Fittings From France, India, Israel, Malaysia, The Republic of Korea, Thailand, The United Kingdom, and Venezuela, 60 FR 18611 (April 12, 1995).

² Silbo Industries Inc. is an importer of certain carbon steel butt-weld pipe fittings produced by AMT.

Scope of the Order

The scope of the order covers certain pipe fittings from Thailand. They are defined as carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). These imports are currently classifiable under subheading 7307.93.30 of the Harmonized Tariff Schedule of the United States (HTSUS). Although the HTSUS subheadings are provided for convenience and customs purposes, the written description remains dispositive as to the scope of the order.

Analysis of Comment Received

The issue raised in the case briefs by parties in this review are addressed in the Issues and Decision Memorandum from John M. Andersen, Acting Deputy Assistant Secretary for Antidumping and Countervailing Duty Operations, to Ronald K. Lorentzen, Acting Assistant Secretary for Import Administration, dated February 20, 2009 (Decision Memo), which is hereby adopted by this notice. The Decision Memo, which is a public document, is on file in the Central Records Unit, main Department of Commerce building, Room 1117, and is accessible on the Web at http://ia.ita.doc.gov/frn. The paper copy and electronic version of the Decision Memo are identical in content.

Final Results of Changed-Circumstances Review

For the reasons stated in the Preliminary Results, we continue to find that AMT is the successor-in-interest to AST. We will apply this determination retroactively and will instruct U.S. Customs and Border Protection (CBP) to liquidate, without regard to antidumping duties, all unliquidated entries entered, or withdrawn from warehouse, for consumption on or after August 1, 2006, the date of AST's name change to AMT. See Stainless Steel Wire Rod from Italy: Notice of Final Results of Changed Circumstances Antidumping Duty Review, 71 FR 24643, 24644 (April 26, 2006); see also Certain Hot-Rolled Lead and Bismuth Carbon Steel Products from the United Kingdom: Final Results of Changed-Circumstances Antidumping and Countervailing Duty Administrative Review, 64 FR 66880, 66881 (Nov. 30, 1999).

Notification

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Act and 19 CFR 351.216 and 351.221.

Dated: February 20, 2009.
Ronald K. Lorentzen,
Acting Assistant Secretary for Import Administration.

Appendix

1. Application of the Final Results Retroactively

[FR Doc. E9-4239 Filed 2-26-09; 8:45 am]

BILLING CODE 3510-DS-S